DEPARTMENT OF THE INTERIOR

Bureau of Land Management

[ID-957-1420-BJ]

Idaho: Filing of Plats of Survey

AGENCY: Bureau of Land Management, Interior.

ACTION: Notice of filing of plats of surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho, 83709-1657.

SUPPLEMENTARY INFORMATION: These surveys were executed at the request of the Bureau of Land Management to meet certain administrative and management purposes:

The plat representing the dependent resurvey of portions of the Fifth Standard Parallel North (south boundary) and the subdivisional lines, and the subdivision of section 35, in T. 22 N., R. 23 E., Boise Meridian, Idaho, was accepted April 22, 2005.

The plat representing the dependent resurvey of portions of the south boundary of the Lemhi Indian Reservation, the Fourth Standard Parallel North (south boundary), the west boundary, and of the subdivisional lines, and the subdivision of section 31, in T. 18 N., R. 23 E., Boise Meridian, Idaho, was accepted April 27, 2005.

The plat constituting the entire survey record of the dependent resurvey of a portion of the subdivisional lines, and the subdivision of section 8, in T. 7 S., R. 5 E., Boise Meridian, Idaho, was accepted May 4, 2005.

The plat representing the dependent resurvey of portions of the west and north boundaries and subdivisional lines, and the subdivision of sections 6 and 7, in T. 8 S., R. 36 E., Boise Meridian, Idaho, was accepted May 17, 2005.

The plat representing the supplemental plat was prepared to correct certain lotting in section 8, in T. 3 S., R. 35 E., Boise Meridian, Idaho, was accepted June 14, 2005.

These surveys were executed at the request of the Bureau of Land Management to meet certain administrative needs of the National Park Service. The lands surveyed are:

The plat representing the dependent resurvey of a portion of the south boundary, and a portion of the subdivisional lines, and the metes-and-bounds survey of Tracts 37 and 38, in T. 8 S., R. 19 E., Boise Meridian, Idaho, was accepted April 14, 2005.

The plat representing the dependent resurvey of a portion of the subdivision of section 4, and the metes-and-bounds survey of Tracts 37, 38 and 39, and an informative traverse of an easement in section 5, in T. 9 S., R. 19 E., Boise Meridian, Idaho, was accepted April 14, 2005.

These surveys were executed at the request of the Bureau of Land Management to meet certain administrative needs of the Bureau of Indian Affairs. The lands surveyed are:

The plat representing the dependent resurvey of portions of the east boundary, the subdivisional lines and subdivision of sections 24, 25, and 26, and the additional subdivision of sections 24, 25, and 26, in T. 33 N., R. 2 W., Boise Meridian, Idaho, was accepted April 13, 2005.

The plat representing the dependent resurvey of portions of the West Boundary of the Nez Perce Indian Reservation, subdivisional lines, and subdivision of sections 16 and 17, the additional subdivision of section 16, and the metes-and-bounds surveys of certain lines in sections 16 and 17, in T. 35 N., R. 4 W., Boise Meridian, Idaho, was accepted April 29, 2005.

The plat representing the dependent resurvey of portions of the west boundary, subdivisional lines, and the 1889 adjusted meanders of the left bank of the Middle Fork of the Clearwater River, the subdivision of certain sections, the survey of certain lots, and metes-and-bounds surveys in sections 8 and 9, and the meanders of the 1999-2004 left bank of the Middle Fork of the Clearwater River in sections 9 and 10, in T. 32 N., R. 4 E., Boise Meridian, Idaho, was accepted June 2, 2005.

The plat constituting the entire survey record of the survey of a portion of the 2003 meanders of the right bank of the Blackfoot River in section 24 and a portion of the north boundary of the Fort Hall Indian Reservation in section 24, in T. 3 S., R. 34 E., Boise Meridian, Idaho, was accepted June 8, 2005.

The plat representing the dependent resurvey of portions of the south boundary of the Nez Perce Indian Reservation, the subdivisional lines, and the subdivision of sections 9 and 20, and the additional subdivision of sections 9 and 20, in T. 32 N., R. 1 E., Boise Meridian, Idaho, was accepted June 9, 2005.

The plat representing the dependent resurvey of portions of the west boundary, subdivisional lines, subdivision of section 18, and the subdivision of section 8, in T. 44 N., R. 4 W., Boise Meridian, Idaho, was accepted June 16, 2005.

This survey was executed at the request of the Bureau of Land Management to meet certain administrative needs of the Bureau of Reclamation. The lands surveyed are:

The plat representing the dependent resurvey of portions of the subdivisional lines and the subdivision of section 31, and a metes-and-bounds survey in section 31, in T. 8 S., R. 20 E., Boise Meridian, Idaho, was accepted May 24, 2005.

SUMMARY: The Bureau of Land Management (BLM) will file the plats of surveys of the lands described below in the BLM Idaho State Office, Boise, Idaho, 30 days from the date of publication in the Federal Register.

The plat constituting the entire survey record of the 2003 meanders of an unnamed island, in the Snake River, designated as Tract 38, in section 27, in T. 10 S., R. 23 E., Boise Meridian, was accepted June 8, 2005.

The plat constituting the entire record of survey of the 2004 meanders of an unnamed island, in the Snake River, designated as Tract 37, in sections 25 and 36, in T. 9 S., R. 24 E., Boise Meridian, Idaho, was accepted June 8, 2005.

The plat representing the entire record of survey of the 2003 meanders of two unnamed islands in the Snake River, designated as lot 10 and lot 11, in section 2, in T. 9 S., R. 25 E., Boise Meridian, Idaho, was accepted June 8, 2005.

The plat representing the entire record of survey of the 2003 meanders of an island in the Snake River, locally known as Jackson Bridge Island, designated as Tract 37, in sections 7, 8, and 18, in T. 9 S., R. 25 E., Boise Meridian, Idaho, was accepted June 8, 2005.

The plat representing the entire record of the survey of the 2004 meanders of an unnamed island, in the Snake River, designated as Tract 38, in section 18, in T. 9 S., R. 25 E., Boise Meridian, Idaho, was accepted June 8, 2005.

The plat representing the entire record of the survey of the 2004 meanders of an unnamed island, in the Snake River, designated as lot 7, in section 21, in T. 10 S., R. 24 E., Boise Meridian, Idaho, was accepted June 8, 2005.

Dated: July 5, 2005.
Stanley G. French,
Chief Cadastral Surveyor for Idaho.

[FR Doc. 05-13620 Filed 7-11-05; 8:45 am]

BILLING CODE 4310-GG-P